DEPARTMENT OF TRANSPORTATION

Federal Aviation Administration

14 CFR Part 39

[Docket No. FAA-2008-0903; Directorate Identifier 2008-NM-123-AD; Amendment 39-15770; AD 2008-26-04]

RIN 2120-AA64

Airworthiness Directives; Cessna Model 560 Airplanes

AGENCY: Federal Aviation Administration (FAA), Department of Transportation (DOT).

ACTION: Final rule.

SUMMARY: The FAA is superseding an existing airworthiness directive (AD), which applies to certain Cessna Model 560 airplanes. That AD currently requires installing new minimum airspeed placards to notify the flightcrew of the proper airspeeds for operating in both normal and icing conditions. That AD also requires revising the airplane flight manual to provide limitations and procedures for operating in icing conditions, for operating with anti-ice systems selected “on” independent of icing conditions, and for recognizing and recovering from inadvertent stall. That AD also provides an optional terminating action for the placard installation. This new AD requires the previously optional terminating action. This AD results from an evaluation of in-service airplanes following an accident. The evaluation indicated that some airplanes might have an improperly adjusted stall warning system. We are issuing this AD to prevent an inadvertent stall due to the inadequate stall warning margin provided by an improperly adjusted stall warning system, which could result in loss of controllability of the airplane.

DATES: This AD becomes effective January 28, 2009.

The Director of the Federal Register approved the incorporation by reference of certain publications listed in the AD as of January 28, 2009.

On November 30, 2007 (72 FR 64135, November 15, 2007), the Director of the Federal Register approved the incorporation by reference of certain other publications.

ADDRESSES: For service information identified in this AD, contact Cessna Aircraft Co., P.O. Box 7706, Wichita, Kansas 67277-7706; telephone 316-517-6215; fax 316-517-5802; e-mail citationpubs@cessna.textron.com; Internet https://www.cessnasupport.com/newlogin.html.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Bob Busto, Aerospace Engineer, Systems and Propulsion Branch, ACE-116W, FAA, Wichita Aircraft Certification Office, 1801 Airport Road, Room 100, Mid-Continent Airport, Wichita, Kansas 67209; telephone (316) 946-4157; fax (316) 946-4107.

SUPPLEMENTARY INFORMATION:

Discussion

The FAA issued a notice of proposed rulemaking (NPRM) to amend 14 CFR part 39 to include an AD that supersedes AD 2007-23-13, amendment 39-15259 (72 FR 64135, November 15, 2007). The existing AD (AD 2007-23-13) applies to certain Cessna Model 560 airplanes. That NPRM was published in the Federal Register on August 21, 2008 (73 FR 49359). That NPRM proposed to continue to require installing new minimum airspeed placards to notify the flightcrew of the proper airspeeds for operating in both normal and icing conditions. That NPRM also proposed to continue to require revising the airplane flight manual to provide limitations and procedures for operating in icing conditions, for operating with anti-ice systems selected “on” independent of icing conditions, and for recognizing and recovering from inadvertent stall. That NPRM also proposed to require an optional terminating action for the placard installation and after accomplishing the terminating action, removing an AFM warning.

Comments

We provided the public the opportunity to participate in the development of this AD. We have considered the comment that has been received on the NPRM.

Additional Concern Regarding Safety of Flight in Icing Conditions

The National Safety Review Board (NTSB) states that based on its review of the NPRM, it is pleased that the FAA has performed a fleet survey and has identified a potential source of inaccuracy in the angle-of-attack (AOA) system. Further, the NTSB states it is pleased that the FAA has proposed requirements for correcting the calibration of the AOA system and providing data regarding the calibration adjustment to the manufacturer. The NTSB concludes that these actions would ensure that the stall warning system provides an accurate stall warning based on original and secondary/icing certification flight testing.

However, the NTSB notes that the actions described in this NPRM and in AD 2007-23-13 do not address certain safety recommendations. The NTSB states it is concerned that a reduction in stall warning margin produced by thin, rough ice accretions generated by supercooled large droplet icing conditions or icing conditions near the edge of the icing envelope can eliminate or seriously alter stall margin and the alert provided to the flightcrew, even for a properly calibrated AOA system.

The NTSB states that utilization of the super-cooled large droplet icing envelope being developed in response to NTSB Safety Recommendation A-96-54 to evaluate the stall warning margin of the Cessna Model 560 airplanes with thin, rough ice accretions on or aft of the protected surfaces, as recommended by NTSB Safety Recommendation A-07-17, would provide the best level of safety in all icing condition, and in icing conditions similar to those encountered by the Cessna Model 560 airplane involved in an accident at Pueblo, Colorado.

We acknowledge the NTSB's concerns. The unsafe condition identified in this action is an inadvertent stall due to the inadequate stall warning margin provided by an improperly adjusted stall warning system. This AD addresses that potential unsafe condition.

As noted in the NTSB comment, Safety Recommendation A-07-17 addresses the NTSB's concern with the effect of thin, rough ice accretions on the Cessna Model 560 stall warning system. We have provided to the NTSB the FAA actions responsive to the recommendation. With respect to the application of a large super-cooled large droplet icing envelope to existing airplanes, we have identified, in response to the NTSB Safety Recommendation A-07-16, actions that we have taken and plan to take to ensure the safe operation of existing airplanes equipped with pneumatic deicing boots, such as Cessna Model 560 airplanes. Updates to the NTSB are provided through established procedures.

Conclusion

We have carefully reviewed the available data, including the comment that has been submitted, and determined that air safety and the public interest require adopting the AD as proposed.

Costs of Compliance

There are about 538 airplanes of the affected design in the worldwide fleet. The following table provides the estimated costs for U.S. operators to comply with this AD. There are about 400 U.S. registered airplanes.

Estimated Costs
Action | Work hours | Average labor rate per hour | Cost per airplane | Fleet cost
AFM Revision (required by AD 2007-23-13) | 1 | $80 | $80 | $32,000
Placard Installation (required by AD 2007-23-13) | 1 | 80 | 80 | 32,000
Functional Test (new action) | 8 | 80 | 640 | 256,000

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-15259 (72 FR 64135, November 15, 2007) and by adding the following new airworthiness directive (AD):

2008-26-04 Cessna Aircraft Company: Amendment 39-15770. Docket No. FAA-2008-0903; Directorate Identifier 2008-NM-123-AD.

Effective Date

(a) This AD becomes effective January 28, 2009.

Affected ADs

(b) This AD supersedes AD 2007-23-13.

Applicability

(c) This AD applies to Cessna Model 560 airplanes, certificated in any category, serial numbers (S/Ns) 560-0001 through -0538 inclusive.

Unsafe Condition

(d) This AD results from an evaluation of in-service airplanes following an accident. The evaluation indicated that some airplanes may have an improperly adjusted stall warning system. We are issuing this AD to prevent an inadvertent stall due to the inadequate stall warning margin provided by an improperly adjusted stall warning system, which could result in loss of controllability of the airplane.

Compliance

(e) You are responsible for having the actions required by this AD performed within the compliance times specified, unless the actions have already been done.

Restatement of Requirements of AD 2007-23-13

Airplane Flight Manual (AFM) Revision

(f) Within 14 days after November 30, 2007 (the effective date of AD 2007-23-13), revise the Operating Limitations, Normal Procedures, Emergency Procedures, and the Approach and Landing sections of the AFM to include the information in the temporary changes (TCs) identified in Table 1 of this AD, as applicable, except as required by paragraph (k) of this AD. These TCs provide limitations and procedures for operating in icing conditions, for operating with anti-ice systems selected “on” independent of icing conditions, and for recognizing and recovering from inadvertent stall. Operate the airplane according to the limitations and procedures in the applicable TCs.

Note 1: This may be done by inserting a copy of the applicable TCs into the applicable AFM. When these TCs have been included in the general revisions of the AFM, the general revisions may be inserted into the AFM (in lieu of the applicable TCs), provided the relevant information in the general revision is identical to that in the applicable TCs.

Table 1—Cessna Model 560 TCs
Airplanes | Applicable TC
Model 560 airplanes, S/Ns 560-0001 through -0259 inclusive | Cessna 560FM TC-R13-08, dated August 31, 2007, to the Cessna Model 560 Citation V AFM. Cessna 560FM TC-R13-09, dated August 31, 2007, to the Cessna Model 560 Citation V AFM.
| Cessna 560FM TC-R13-10, dated August 31, 2007, to the Cessna Model 560 Citation V AFM.
| Cessna 560FM TC-R13-12, dated August 31, 2007, to the Cessna Model 560 Citation V AFM.
| Cessna 560FM TC-R13-13, dated August 31, 2007, to the Cessna Model 560 Citation V AFM.
| Cessna 560FM TC-R13-14, dated October 2, 2007, to the Cessna Model 560 Citation V AFM.
| Cessna 560FM TC-R13-15, dated October 2, 2007, to the Cessna Model 560 Citation V AFM.
| Cessna 560FM TC-R13-16, dated October 2, 2007, to the Cessna Model 560 Citation V AFM.
| Cessna 560FM TC-R13-17, dated October 2, 2007, to the Cessna Model 560 Citation V AFM.
| Cessna 560FM TC-R13-18, dated October 2, 2007, to the Cessna Model 560 Citation V AFM.
| Cessna 560FM TC-R13-19, dated October 2, 2007, to the Cessna Model 560 Citation V AFM.
| Cessna 560FM TC-R13-20, dated October 2, 2007, to the Cessna Model 560 Citation V AFM.
Model 560 airplanes, S/Ns 560-0260 through -0538 inclusive | Cessna 56FMA TC-R11-16, dated August 31, 2007, to the Cessna Model 560 Citation Ultra AFM. Cessna 56FMA TC-R11-17, dated August 31, 2007, to the Cessna Model 560 Citation Ultra AFM.
| Cessna 56FMA TC-R11-19, dated August 31, 2007, to the Cessna Model 560 Citation Ultra AFM.
| Cessna 56FMA TC-R11-20, dated August 31, 2007, to the Cessna Model 560 Citation Ultra AFM.
| Cessna 56FMA TC-R11-21, dated August 31, 2007, to the Cessna Model 560 Citation Ultra AFM.
| Cessna 56FMA TC-R11-23, dated October 2, 2007, to the Cessna Model 560 Citation Ultra AFM.
| Cessna 56FMA TC-R11-24, dated October 2, 2007, to the Cessna Model 560 Citation Ultra AFM.
| Cessna 56FMA TC-R11-25, dated October 2, 2007, to the Cessna Model 560 Citation Ultra AFM.
| Cessna 56FMA TC-R11-26, dated October 2, 2007, to the Cessna Model 560 Citation Ultra AFM.
| Cessna 56FMA TC-R11-27, dated October 2, 2007, to the Cessna Model 560 Citation Ultra AFM.
| Cessna 56FMA TC-R11-28, dated October 2, 2007, to the Cessna Model 560 Citation Ultra AFM.
| Cessna 56FMA TC-R11-29, dated October 2, 2007, to the Cessna Model 560 Citation Ultra AFM.
| Cessna 56FMA TC-R11-30, dated October 2, 2007, to the Cessna Model 560 Citation Ultra AFM.

Placard Installation

(g) Within 30 days after November 30, 2007, install new minimum airspeed placards to notify the flightcrew of the proper airspeeds for operating in normal and icing conditions, in accordance with the Accomplishment Instructions of Cessna Service Bulletin SB560-34-143, dated September 7, 2007, including Attachment and Service Bulletin Supplemental Data; or Cessna Service Bulletin SB560-34-143, Revision 1, dated November 21, 2007. As of the effective date of this AD, only Revision 1 may be used. The placards must be installed above or near the pilot and copilot altitude indicators or primary flight displays and must be in clear view of the pilot and copilot. The placards may be removed when the actions specified in paragraphs (i) and (j) of this AD have been accomplished.

No Maintenance Transaction Report Required for Cessna Service Bulletin

(h) Although Cessna Service Bulletin SB560-34-143, dated September 7, 2007, including Attachment and Service Bulletin Supplemental Data; and Cessna Service Bulletin SB560-34-143, Revision 1, dated November 21, 2007; referred to in paragraph (g) of this AD, specify to submit a maintenance transaction report to the manufacturer, this AD does not include that requirement.

New Requirements of This AD

Terminating Action

(i) Within 6 months after the effective date of this AD, do a functional test of the angle-of-attack (AOA) system, and adjust the calibration settings of the AOA system as applicable, in accordance with Cessna Alert Service Letter ASL560-34-34 (for airplanes equipped with a single AOA system) or ASL560-34-35 (for airplanes equipped with a dual AOA system), both Revision 1, both dated October 2, 2007, both including Attachments, as applicable; or Cessna Alert Service Letter ASL560-34-34 or ASL560-34-35, both Revision 3, both dated March 6, 2008, both including Attachments, as applicable. As of the effective date of this AD, only Revision 3 may be used. Doing the functional test of the AOA system, adjusting the calibration settings of the AOA system as applicable, and submitting the AOA system test data as specified in paragraph (j) of this AD, terminates the placard installation required by paragraph (g) of this AD.

Note 2: Maintenance Manual Revision 24 of Cessna 560 Maintenance Manual 56MM has been changed to reflect the intent of the ASLs for the maintenance actions and periodic inspections of the AOA/Stall Warning System.

Reporting AOA System Test Data

(j) Submit the AOA system test data report for the functional test specified in paragraph (i) of this AD to Glenn Todd, Citation Customer Support Engineer, Department 572, P.O. Box 7706, Wichita, KS 67277-7706, e-mail: gatodd@cessna.textron.com, fax: 1-316-517-8500 or 1-316-206-2337. Submit the report at the applicable time specified in paragraph (j)(1) or (j)(2) of this AD. The report must include the AOA test data, the airplane serial number and registration number, and the number of landings and flight hours on the airplane. Under the provisions of the Paperwork Reduction Act (44 U.S.C. 3501 et seq.), the Office of Management and Budget (OMB) has approved the information collection requirements contained in this AD and has assigned OMB Control Number 2120-0056.

(1) If the functional test was done after November 30, 2007: Submit the report within 30 days after doing the functional test.

(2) If the inspection was accomplished prior to November 30, 2007: Submit the report within 30 days after November 30, 2007.

Removal of Warning From the Limitations Section of the AFM

(k) For airplanes on which the actions required by paragraph (i) of this AD have been done: Within 30 days after doing the actions required by paragraph (i) of this AD or within 30 days after the effective date of this AD, whichever occurs later, revise the Limitations Section of the AFM by removing the following Warning statement:

“Warning: Stick Shaker May Not Activate Prior to Buffet/Roll-Off If Airspeed Is Reduced Below the Appropriate Minimum Speed.”

No Maintenance Transaction Report Required for Cessna Service Letters

(l) Cessna Alert Service Letters ASL560-34-34 and ASL560-34-35, both Revision 1, both dated October 2, 2007, both including Attachments; and Cessna Alert Service Letters ASL560-34-34 and ASL560-34-35, both Revision 3, both dated March 6, 2008, both including Attachments; specify to submit a maintenance transaction report to the manufacturer. This AD does not include that requirement.

Actions Accomplished According to Previous Issue of Service Letters

(m) Actions accomplished before the effective date of this AD in accordance with Cessna Alert Service Letter ASL560-34-34 or ASL560-34-35, both Revision 2, both dated January 11, 2008, both including Attachments, are considered acceptable for compliance with the corresponding action specified in paragraph (i) of this AD.

Alternative Methods of Compliance (AMOCs)

(n)(1) The Manager, Wichita Aircraft Certification Office (ACO), FAA, ATTN: Bob Busto, Aerospace Engineer, Systems and Propulsion Branch, ACE-116W, FAA, Wichita ACO, 1801 Airport Road, Room 100, Mid-Continent Airport, Wichita, Kansas 67209; telephone (316) 946-4157; fax (316) 946-4107; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(o) You must use the applicable service information listed in Table 2 of this AD to perform the actions that are required by this AD, unless the AD specifies otherwise.

Table 2—Material Incorporated by Reference
Service information | Revision level | Date
Cessna Alert Service Letter ASL560-34-34, including Attachments | 1 | October 2, 2007.
Cessna Alert Service Letter ASL560-34-34, including Attachments | 3 | March 6, 2008.
Cessna Alert Service Letter ASL560-34-35, including Attachments | 1 | October 2, 2007.
Cessna Alert Service Letter ASL560-34-35, including Attachments | 3 | March 6, 2008.
Cessna Service Bulletin SB560-34-143, including Attachment and Service Bulletin Supplemental Data | Original | September 7, 2007.
Cessna Service Bulletin SB560-34-143 | 1 | November 21, 2007.
Cessna Temporary Change 56FMA TC-R11-16 to the Cessna Model 560 Citation Ultra Airplane Flight Manual | Original | August 31, 2007.
Cessna Temporary Change 56FMA TC-R11-17 to the Cessna Model 560 Citation Ultra Airplane Flight Manual | Original | August 31, 2007.
Cessna Temporary Change 56FMA TC-R11-19 to the Cessna Model 560 Citation Ultra Airplane Flight Manual | Original | August 31, 2007.
Cessna Temporary Change 56FMA TC-R11-20 to the Cessna Model 560 Citation Ultra Airplane Flight Manual | Original | August 31, 2007.
Cessna Temporary Change 56FMA TC-R11-21 to the Cessna Model 560 Citation Ultra Airplane Flight Manual | Original | August 31, 2007.
Cessna Temporary Change 56FMA TC-R11-23 to the Cessna Model 560 Citation Ultra Airplane Flight Manual | Original | October 2, 2007.
Cessna Temporary Change 56FMA TC-R11-24 to the Cessna Model 560 Citation Ultra Airplane Flight Manual | Original | October 2, 2007.
Cessna Temporary Change 56FMA TC-R11-25 to the Cessna Model 560 Citation Ultra Airplane Flight Manual | Original | October 2, 2007.
Cessna Temporary Change 56FMA TC-R11-26 to the Cessna Model 560 Citation Ultra Airplane Flight Manual | Original | October 2, 2007.
Cessna Temporary Change 56FMA TC-R11-27 to the Cessna Model 560 Citation Ultra Airplane Flight Manual | Original | October 2, 2007.
Cessna Temporary Change 56FMA TC-R11-28 to the Cessna Model 560 Citation Ultra Airplane Flight Manual | Original | October 2, 2007.
Cessna Temporary Change 56FMA TC-R11-29 to the Cessna Model 560 Citation Ultra Airplane Flight Manual | Original | October 2, 2007.
Cessna Temporary Change 56FMA TC-R11-30 to the Cessna Model 560 Citation Ultra Airplane Flight Manual | Original | October 2, 2007.
Cessna Temporary Change 560FM TC-R13-08 to the Cessna Model 560 Citation V Airplane Flight Manual | Original | August 31, 2007.
Cessna Temporary Change 560FM TC-R13-09 to the Cessna Model 560 Citation V Airplane Flight Manual | Original | August 31, 2007.
Cessna Temporary Change 560FM TC-R13-10 to the Cessna Model 560 Citation V Airplane Flight Manual | Original | August 31, 2007.
Cessna Temporary Change 560FM TC-R13-12 to the Cessna Model 560 Citation V Airplane Flight Manual | Original | August 31, 2007.
Cessna Temporary Change 560FM TC-R13-13 to the Cessna Model 560 Citation V Airplane Flight Manual | Original | August 31, 2007.
Cessna Temporary Change 560FM TC-R13-14 to the Cessna Model 560 Citation V Airplane Flight Manual | Original | October 2, 2007.
Cessna Temporary Change 560FM TC-R13-15 to the Cessna Model 560 Citation V Airplane Flight Manual | Original | October 2, 2007.
Cessna Temporary Change 560FM TC-R13-16 to the Cessna Model 560 Citation V Airplane Flight Manual | Original | October 2, 2007.
Cessna Temporary Change 560FM TC-R13-17 to the Cessna Model 560 Citation V Airplane Flight Manual | Original | October 2, 2007.
Cessna Temporary Change 560FM TC-R13-18 to the Cessna Model 560 Citation V Airplane Flight Manual | Original | October 2, 2007.
Cessna Temporary Change 560FM TC-R13-19 to the Cessna Model 560 Citation V Airplane Flight Manual | Original | October 2, 2007.
Cessna Temporary Change 560FM TC-R13-20 to the Cessna Model 560 Citation V Airplane Flight Manual | Original | October 2, 2007.

(1) The Director of the Federal Register approved the incorporation by reference of the service information listed in Table 3 of this AD in accordance with 5 U.S.C. 552(a) and 1 CFR part 51.

Table 3—New Material Incorporated by Reference
Service information | Revision level | Date
Cessna Alert Service Letter ASL560-34-34, including Attachments | 3 | March 6, 2008.
Cessna Alert Service Letter ASL560-34-35, including Attachments | 3 | March 6, 2008.
Cessna Service Bulletin SB560-34-143 | 1 | November 21, 2007.

(2) On November 30, 2007 (72 FR 64135, November 15, 2007), the Director of the Federal Register approved the incorporation by reference of the service information listed in Table 4 of this AD.

Table 4—Material Previously Incorporated by Reference
Service information | Revision level | Date
Cessna Alert Service Letter ASL560-34-34, including Attachments | 1 | October 2, 2007.
Cessna Alert Service Letter ASL560-34-35, including Attachments | 1 | October 2, 2007.
Cessna Service Bulletin SB560-34-143, including Attachment and Service Bulletin Supplemental Data | Original | September 7, 2007.
Cessna Temporary Change 56FMA TC-R11-16 to the Cessna Model 560 Citation Ultra Airplane Flight Manual | Original | August 31, 2007.
Cessna Temporary Change 56FMA TC-R11-17 to the Cessna Model 560 Citation Ultra Airplane Flight Manual | Original | August 31, 2007.
Cessna Temporary Change 56FMA TC-R11-19 to the Cessna Model 560 Citation Ultra Airplane Flight Manual | Original | August 31, 2007.
Cessna Temporary Change 56FMA TC-R11-20 to the Cessna Model 560 Citation Ultra Airplane Flight Manual | Original | August 31, 2007.
Cessna Temporary Change 56FMA TC-R11-21 to the Cessna Model 560 Citation Ultra Airplane Flight Manual | Original | August 31, 2007.
Cessna Temporary Change 56FMA TC-R11-23 to the Cessna Model 560 Citation Ultra Airplane Flight Manual | Original | October 2, 2007.
Cessna Temporary Change 56FMA TC-R11-24 to the Cessna Model 560 Citation Ultra Airplane Flight Manual | Original | October 2, 2007.
Cessna Temporary Change 56FMA TC-R11-25 to the Cessna Model 560 Citation Ultra Airplane Flight Manual | Original | October 2, 2007.
Cessna Temporary Change 56FMA TC-R11-26 to the Cessna Model 560 Citation Ultra Airplane Flight Manual | Original | October 2, 2007.
Cessna Temporary Change 56FMA TC-R11-27 to the Cessna Model 560 Citation Ultra Airplane Flight Manual | Original | October 2, 2007.
Cessna Temporary Change 56FMA TC-R11-28 to the Cessna Model 560 Citation Ultra Airplane Flight Manual | Original | October 2, 2007.
Cessna Temporary Change 56FMA TC-R11-29 to the Cessna Model 560 Citation Ultra Airplane Flight Manual | Original | October 2, 2007.
Cessna Temporary Change 56FMA TC-R11-30 to the Cessna Model 560 Citation Ultra Airplane Flight Manual | Original | October 2, 2007.
Cessna Temporary Change 560FM TC-R13-08 to the Cessna Model 560 Citation V Airplane Flight Manual | Original | August 31, 2007.
Cessna Temporary Change 560FM TC-R13-09 to the Cessna Model 560 Citation V Airplane Flight Manual | Original | August 31, 2007.
Cessna Temporary Change 560FM TC-R13-10 to the Cessna Model 560 Citation V Airplane Flight Manual | Original | August 31, 2007.
Cessna Temporary Change 560FM TC-R13-12 to the Cessna Model 560 Citation V Airplane Flight Manual | Original | August 31, 2007.
Cessna Temporary Change 560FM TC-R13-13 to the Cessna Model 560 Citation V Airplane Flight Manual | Original | August 31, 2007.
Cessna Temporary Change 560FM TC-R13-14 to the Cessna Model 560 Citation V Airplane Flight Manual | Original | October 2, 2007.
Cessna Temporary Change 560FM TC-R13-15 to the Cessna Model 560 Citation V Airplane Flight Manual | Original | October 2, 2007.
Cessna Temporary Change 560FM TC-R13-16 to the Cessna Model 560 Citation V Airplane Flight Manual | Original | October 2, 2007.
Cessna Temporary Change 560FM TC-R13-17 to the Cessna Model 560 Citation V Airplane Flight Manual | Original | October 2, 2007.
Cessna Temporary Change 560FM TC-R13-18 to the Cessna Model 560 Citation V Airplane Flight Manual | Original | October 2, 2007.
Cessna Temporary Change 560FM TC-R13-19 to the Cessna Model 560 Citation V Airplane Flight Manual | Original | October 2, 2007.
Cessna Temporary Change 560FM TC-R13-20 to the Cessna Model 560 Citation V Airplane Flight Manual | Original | October 2, 2007.

(3) Contact Cessna Aircraft Co., P.O. Box 7706, Wichita, Kansas 67277; telephone 316-517-6215; fax 316-517-5802; e-mail citationpubs@cessna.textron.com; Internet https://www.cessnasupport.com/newlogin.html; for a copy of this service information.

(4) You may review copies of the service information that are incorporated by reference at the FAA, Transport Airplane Directorate, 1601 Lind Avenue, SW., Renton, Washington. For information on the availability of this material at the FAA, call 425-227-1221 or 425-227-1152.

(5) You may also review copies of the service information at the National Archives and Records Administration (NARA). For information on the availability of this material at NARA, call 202-741-6030, or go to: http://www.archives.gov/federal_register/code_of_federal_regulations/ibr_locations.html.

Issued in Renton, Washington, on December 11, 2008.
Dionne Palermo,
Acting Manager, Transport Airplane Directorate, Aircraft Certification Service.

[FR Doc. E8-30125 Filed 12-23-08; 8:45 am]

BILLING CODE 4910-13-P